DEPARTMENT OF TRANSPORTATION

Federal Aviation Administration

14 CFR Part 95

[Docket No. 30886; Amdt. No. 505]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, March 7, 2013.

FOR FURTHER INFORMATION CONTACT: Rick Dunham, Flight Procedure Standards Branch (AMCAFS-420), Flight Technologies and Programs Division, Flight Standards Service, Federal Aviation Administration, Mike Monroney, Aeronautical Center, 6500 South MacArthur Blvd., Oklahoma City, OK 73169 (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on February 1, 2013.
John M. Allen,
Deputy Director, Flight Standards Service.

Adoption of the Amendment

Accordingly, pursuant to the authority delegated to me by the Administrator, part 95 of the Federal Aviation Regulations (14 CFR part 95) is amended as follows effective at 0901 UTC, March 7, 2013.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 505 effective date March 7, 2013]
FROM | TO | MEA | MAA
§ 95.3000 Low Altitude RNAV Routes
§ 95.3254 RNAV Route T254 is Amended to Read in Part
COLLEGE STATION, TX VORTAC | HIPPS, TX FIX | 3000 | 15000
HIPPS, TX FIX | EAKES, TX FIX | 3000 | 15000

FROM | TO | MEA | MAA
§ 95.6001 Victor Routes-U.S.
§ 95.6010 VOR Federal Airway V10 is Amended to Read in Part
REVLOC, PA VOR/DME | JUNEY, PA FIX | *5000
*5000—GNSS MEA
JUNEY, PA FIX | LANCASTER, PA VORTAC | *5000
*3600—MOCA
§ 95.6014 VOR Federal Airway V14 is Amended to Read in Part
OBRLN, OH FIX | DRYER, OH VOR/DME | *3500
*2500—MOCA
§ 95.6018 VOR Federal Airway V18 is Amended to Read in Part
GUTHRIE, TX VORTAC | BEKLE, TX FIX
| NW BND | *6000
| SE BND | *8000
*3400—MOCA
§ 95.6043 VOR Federal Airway V43 is Amended to Read in Part
APPLETON, OH VORTAC | TIVERTON, OH VOR/DME | 3000
§ 95.6055 VOR Federal Airway V55 is Amended to Read in Part
BRAINERD, MN VORTAC | PARK RAPIDS, MN VOR/DME | 3400
PARK RAPIDS, MN VOR/DME | BETRA, MN FIX | *4500
*3200—MOCA
*3600—GNSS MEA
BETRA, MN FIX | GRAND FORKS, ND VOR/DME | *3300
*2400—MOCA
§ 95.6087 VOR Federal Airway V87 is Amended to Read in Part
SCAGGS ISLAND, CA VORTAC | MAXWELL, CA VORTAC | 5300
§ 95.6101 VOR Federal Airway V101 is Amended to Read in Part
BURLEY, ID VOR/DME | REAPS, ID FIX
| S BND | 7000
| N BND | 9500
REAPS, ID FIX | HAILEY, ID NDB/DME | *9500
*8900—MOCA
HAILEY, ID NDB/DME | SOLDE, ID FIX
| NE BND | 9000
| SW BND | 17000
§ 95.6119 VOR Federal Airway V119 is Amended to Read in Part
ANTIO, OH FIX | INDIAN HEAD, PA VORTAC | 5000
§ 95.6120 VOR Federal Airway V120 is Amended to Read in Part
SPOKANE, WA VORTAC | KARPS, ID FIX | *9000
*7600—MOCA
§ 95.6151 VOR Federal Airway V151 is Amended to Read in Part
MONTPELIER, VT VOR/DME | *BURLINGTON, VT VOR/DME | 6300
*5000—MCA BURLINGTON, VT VOR/DME, SE BND
§ 95.6155 VOR Federal Airway V155 is Amended to Read in Part
LAWRENCEVILLE, VA VORTAC | *MANGE, VA FIX | **4000
*5000—MRA
**2000—GNSS MEA
#LAWRENCEVILLE R-042 UNUSABLE USE RICHMOND R-223
*MANGE, VA FIX | FLAT ROCK, VA VORTAC | **5000
*5000—MRA
**1800—MOCA
**2000—GNSS MEA
§ 95.6157 VOR Federal Airway V157 is Amended to Read in Part
KEY WEST, FL VORTAC | DVALL, FL FIX | *5000
*1400—MOCA
*3000—GNSS MEA
§ 95.6200 VOR Federal Airway V200 is Amended to Read in Part
MENDOCINO, CA VORTAC | WILLIAMS, CA VORTAC | 6200
§ 95.6231 VOR Federal Airway V231 is Amended to Read in Part
*SKOTT, MT FIX | KALISPELL, MT VOR/DME
| N BND | 8600
| S BND | 10000
*12000—MRA
§ 95.6301 VOR Federal Airway V301 is Amended to Read in Part
SANTA ROSA, CA VOR/DME | *KLOGE, CA FIX | 5000
*6400—MCA KLOGE, CA FIX, NE BND
§ 95.6306 VOR Federal Airway V306 is Amended to Read in Part
DAISETTA, TX VORTAC | *KUUPR, TX FIX | 2300
*2800—MRA
*KUUPR, TX FIX | OFERS, LA FIX | 2300
*2800—MRA
§ 95.6383 VOR Federal Airway V383 is Amended to Read in Part
ROSEWOOD, OH VORTAC | YOGGI, OH FIX | 3100
YOGGI, OH FIX | *CHOOT, OH FIX | **6500
*6500—MRA
**3100—MOCA
*CHOOT, OH FIX | DETROIT, MI VOR/DME | 3100
*6500—MRA
§ 95.6430 VOR Federal Airway V430 is Amended to Read in Part
CUT BANK, MT VORTAC | HAVRE, MT VOR/DME | 6800
WILLISTON, ND VORTAC | MINOT, ND VORTAC | *5000
*3900—MOCA
§ 95.6435 VOR Federal Airway V435 is Amended to Read in Part
ROSEWOOD, OH VORTAC | OBRLN, OH FIX | *6000
*2700—MOCA
OBRLN, OH FIX | DRYER, OH VOR/DME | *3500
*2500—MOCA
§ 95.6444 VOR Federal Airway V444 is Amended to Read in Part
EMETT, ID FIX * | BOISE, ID VORTAC | 5600
*7400—MCA BOISE, ID VORTAC, E BND
BOISE, ID VORTAC | AROWS, ID FIX
| W BND | 8000
| E BND | 9000
AROWS, ID FIX | *DERSO, ID FIX | **12500
*15200—MCA DERSO, ID FIX, E BND
**10000—MOCA
DERSO, ID FIX | SOLDE, ID FIX | *17000
*10400—MOCA
SOLDE, ID FIX | *KINZE, ID FIX
| SE BND | 8000
| NW BND | 17000
*15900—MCA KINZE, ID FIX, NW BND
KINZE, ID FIX | BURLEY, ID VOR/DME | *8000
*7000—MOCA
§ 95.6447 VOR Federal Airway V447 is Amended to Read in Part
MUDDI, VT FIX | RUCKY, VT FIX | *6000
*5500—MOCA
RUCKY, VT FIX | MONTPELIER, VT VOR/DME | *4500
*4000—MOCA
§ 95.6448 VOR Federal Airway V448 is Amended to Read in Part
SPOKANE, WA VORTAC | CLASS, ID FIX | *9000
*7600—MOCA
CLASS, ID FIX | KILLY, MT FIX | *13000
*9900—MOCA
*10000—GNSS MEA
KILLY, MT FIX | KALISPELL, MT VOR/DME | *12000
*8600—MOCA
*8600—GNSS MEA
§ 95.6484 VOR Federal Airway V484 is Amended to Read in Part
HAILEY, ID NDB/DME | KINZE, ID FIX | 9300
§ 95.6489 VOR Federal Airway V489 is Amended to Read in Part
LEAFY, NY FIX | KEESE, NY FIX | 5200
§ 95.6500 VOR Federal Airway V500 is Amended to Read in Part
PARMO, ID FIX | *BOISE, ID VORTAC | 5000
*7400—MCA BOISE, ID VORTAC, E BND
BOISE, ID VORTAC | AROWS, ID FIX
| E BND | 9000
| W BND | 8000
AROWS, ID FIX | *DERSO, ID FIX | **12500
*15200—MCA DERSO, ID FIX, E BND
**10000—MOCA
DERSO, ID FIX | SOLDE, ID FIX | *17000
*10400—MOCA
SOLDE, ID FIX | *REAPS, ID FIX
| E BND | **14000
| W BND | **17000
*14000—MCA REAPS, ID FIX, W BND
**8000—MOCA
§ 95.6523 VOR Federal Airway V523 is Amended to Read in Part
APPLETON, OH VORTAC | TIVERTON, OH VOR/DME | 3000
§ 95.6525 VOR Federal Airway V525 is Amended to Read in Part
APPLETON, OH VORTAC | TIVERTON, OH VOR/DME | 3000
§ 95.6573 VOR Federal Airway V573 is Amended to Read in Part
*ALEXX, OK FIX | ARDMORE, OK VORTAC | #
*7000—MRA
#UNUSABLE
§ 95.6629 VOR Federal Airway V629 IS ADDED TO READ
SHUSS, NV FIX | BOULDER CITY, NV VORTAC | 7600

FROM | TO | MEA | MAA
§ 95.7001 JET ROUTES
§ 95.7002 JET ROUTE J2 is Amended to Read in Part
TUCSON, AZ VORTAC | EL PASO, TX VORTAC | #25000 | 45000
#MEA IS ESTABLISHED WITH A GAP IN NAVIGATION SIGNAL COVERAGE.
§ 95.7079 JET ROUTE J79 is Amended to Read in Part
KEY WEST, FL VORTAC | DOLPHIN, FL VORTAC | 18000 | 45000

AIRWAY SEGMENT: FROM | AIRWAY SEGMENT: TO | CHANGEOVER PONTS: DISTANCE | CHANGEOVER PONTS: FROM
§ 95.8003 VOR Federal Airway Changeover Points is Amended to Delete Changeover Point
INDIAN HEAD, PA VORTAC | PARKERSBURG, WV VORTAC | 60 | INDIAN HEAD.
V200 is Amended to Delete Changeover Point
MENDOCINO, CA VORTAC | WILLIAMS, CA VORTAC | 22 | MENDOCINO.
V444 is Amended to Modify Changeover Point
BOISE, ID VORTAC | POCATELLO, ID VOR/DME | 66 | BOISE.
V55 is Amended to Add Changeover Point
BRAINERD, MN VORTAC | PARK RAPIDS, MN VOR/DME | 6 | BRAINERD.
PARK RAPIDS, MN VOR/DME | GRAND FORKS, ND VOR/DME | 64 | PARK RAPIDS.

[FR Doc. 2013-03074 Filed 2-8-13; 8:45 am]

BILLING CODE 4910-13-P